DEPARTMENT OF COMMERCE

International Trade Administration

[A-570-827]

Certain Cased Pencils From the People's Republic of China: Extension of Time Limit for the Final Results of Antidumping Duty Administrative Review

AGENCY: Import Administration, International Trade Administration, Department of Commerce

DATES: Effective Date: May 27, 2010.

FOR FURTHER INFORMATION CONTACT: Alexander Montoro or Joseph Shuler, AD/CVD Operations, Office 1, Import Administration, International Trade Administration, U.S. Department of Commerce, 14th Street and Constitution Avenue, NW., Washington, DC 20230; telephone (202) 482-0238 and (202) 482-1293, respectively.

Background

On December 22, 2009, the Department of Commerce (“Department”) published the preliminary results of the administrative review of the antidumping duty order on certain cased pencils from the People's Republic of China (“PRC”), covering the period December 1, 2007 through November 30, 2008. See Certain Cased Pencils From the People's Republic of China: Preliminary Results of Antidumping Duty Administrative Review, 74 FR 68047 (December 22, 2009). The final results for this administrative review were due no later than April 21, 2010.¹ On April 21, 2010, the Department published a notice extending the time limit for completion of the final results by 30 days to May 28, 2010, because it needed additional time to analyze complex surrogate value issues. See Certain Cased Pencils From the People's Republic of China: Extension of Time Limit for the Final Results of Antidumping Duty Administrative Review, 75 FR 20815 (April 21, 2010).

¹ As explained in the Memorandum from the Deputy Assistant Secretary for Import Administration, the Department has exercised its discretion to toll deadlines for the duration of the closure of the Federal Government from February 5 through February 11, 2010. As a result, all deadlines in this segment have been extended by seven days and the revised deadline for the final results became April 28, 2010. See Memorandum to the Record from Ronald Lorentzen, Deputy Assistant Secretary for Import Administration, “Tolling of Administrative Deadlines As a Result of the Government Closure During Recent Snowstorm,” dated February 12, 2010.

Extension of Time Limit for Final Results

Section 751(a)(3)(A) of the Tariff Act of 1930, as amended (“the Act”), requires the Department to issue the final results of an administrative review within 120 days after the date on which the preliminary results are published. If it is not practicable to complete the review within that time period, section 751(a)(3)(A) of the Act allows the Department to extend the deadline for the final results to a maximum of 180 days after the date on which the preliminary results are published. The Department now finds it is not practicable to complete the final results of this administrative review within the initial time extension of May 28, 2010, because the Department continues to need additional time to consider the complex issues related to surrogate valuation. Therefore, the Department is further extending the time limit for completion of the final results of this review by an additional 30 days to June 27, 2010, in accordance with section 751(a)(3)(A) of the Act and 19 CFR 351.213(h)(2). However, June 27, 2010, falls on a Sunday, and it is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of the final results is now no later than June 28, 2010.

This notice is published in accordance with sections 751(a)(3)(A) and 777(i) of the Act.

Dated: May 21, 2010.
John M. Andersen,
Acting Deputy Assistant Secretary for Antidumping and Countervailing Duty Operations.

[FR Doc. 2010-12804 Filed 5-26-10; 8:45 am]

BILLING CODE 3510-DS-P